DEPARTMENT OF TRANSPORTATION

Federal Aviation Administration

14 CFR Part 39

[Docket No. FAA-2004-19960; Directorate Identifier 2004-CE-47-AD]

RIN 2120-AA64

Airworthiness Directives; The New Piper Aircraft, Inc. PA-34 Series Airplanes

AGENCY: Federal Aviation Administration (FAA), DOT.

ACTION: Notice of proposed rulemaking (NPRM).

SUMMARY: The FAA proposes to supersede Airworthiness Directive (AD) 93-24-14, which applies to all The New Piper Aircraft, Inc. (Piper) PA-34 series airplanes. AD 93-24-14 currently requires you to repetitively replace the bolt and stack up that connect the upper drag link to the nose gear trunnion. This proposed AD is the result of many service difficulty reports related to the collapse or inadvertent retraction of the nose landing gear (NLG). Consequently, this proposed AD would retain the actions required in AD 93-24-14 until the actions of the proposed AD would begin, require you to inspect the NLG and components of the NLG using new procedures for rigging the nose gear installation, and require you to replace unserviceable parts. We are also issuing this proposed AD to detect, correct, and prevent future failure in certain components of the NLG, lack of cleanliness of the NLG due to inadequate maintenance, or lack of lubricant in the NLG or NLG components. This failure of the NLG could lead to loss of control of the airplane during take-off, landing, or taxiing operations.

DATES: We must receive any comments on this proposed AD by April 11, 2005.

ADDRESSES: Use one of the following to submit comments on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, S.W., Washington, DC, between 9 a.m. and 5 p.m., Monday through Friday, except Federal holidays.

To get the service information identified in this proposed AD, contact The New Piper Aircraft, Inc., 2926 Piper Drive, Vero Beach, Florida, 32960.

To view the comments to this proposed AD, go to http://dms.dot.gov. This is docket number FAA-2004-19960.

FOR FURTHER INFORMATION CONTACT: Hassan Amini, Aerospace Engineer, FAA, Atlanta Aircraft Certification Office, One Crown Center, 1895 Phoenix Boulevard, Suite 450, Atlanta, Georgia 30349; telephone: (770) 703-6080; facsimile: (770) 703-6097.

SUPPLEMENTARY INFORMATION:

Comments Invited

How do I comment on this proposed AD? We invite you to submit any written relevant data, views, or arguments regarding this proposal. Send your comments to an address listed under ADDRESSES. Include the docket number, “FAA-2004-19960; Directorate Identifier 2004-CE-47-AD” at the beginning of your comments. We will post all comments we receive, without change, to http://dms.dot.gov, including any personal information you provide. We will also post a report summarizing each substantive verbal contact with FAA personnel concerning this proposed rulemaking. Using the search function of our docket web site, anyone can find and read the comments received into any of our dockets, including the name of the individual who sent the comment (or signed the comment on behalf of an association, business, labor union, etc.). This is docket number FAA-2004-19960. You may review the DOT's complete Privacy Act Statement in the Federal Register published on April 11, 2000 (65 FR 19477-78) or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

Has FAA taken any action to this point? Several incidents where the nose landing gear (NLG) on The New Piper Aircraft, Inc. (Piper) PA-34 series airplanes collapsed caused us to issue AD 93-24-14, Amendment 39-8762 (58 FR 65115, December 13, 1993). AD 93-24-14 currently requires the repetitive replacement of the bolt and stack up that connect the upper drag link to the nose gear trunnion on all Piper PA-34 series airplanes.

What has happened since AD 93-24-14 to initiate this proposed action? The FAA has received 188 service difficulty reports (SDRs) related to the NLG on Piper PA-34 series airplanes. There are 72 SDRs that describe the collapse or inadvertent retraction of the NLG.

A review of the SDRs related to the NLG and the collapse or inadvertent retraction of the NLG found that one or more of the following conditions could result in collapse of the NLG:

—nose gear steering control excessive travel and the disengagement of the tiller roller;

—failure or out of tolerances of the retraction links and bolts;

—crack(s) in the nose gear trunnion;

—failure of the nose gear upper drag link attach bolt;

—failure of the nose gear retraction link retention spring;

—out of rig and failure of the nose gear down lock link assembly;

—failure of the nose gear actuator mounting bracket and its attachments;

—failure of the attachment of the retraction link to the actuator mounting bracket;

—lack of lubricant in the NLG or NLG components; or

—lack of cleanliness of the NLG or the NLG components.

The exact cause of the collapse or inadvertent retraction of the NLG cannot be determined.

Consequently, Piper took the following actions to prevent future failure of the NLG:

—modified certain components to improve their long-term service life;

—corrected and clarified the rigging procedures for the nose gear installation; and

—revised the periodic inspection requirements of the applicable maintenance manuals.

What is the potential impact if FAA took no action? Failure in certain components of the NLG, a lack of cleanliness of the NLG, or a lack of lubricant in the NLG or the NLG components could result in failure of the NLG. This failure of the NLG could lead to loss of control of the airplane during take-off, landing, or taxiing operations.

Is there service information that applies to this subject? The New Piper Aircraft, Inc. has issued Service Bulletin No. 1123A, dated November 30, 2004.

What are the provisions of this service information? The service bulletin includes procedures for:

—inspecting the NLG and the NLG components;

—rigging of the nose gear installation; and

—replacing older parts of the NLG with new modified parts having improved service life.

FAA's Determination and Requirements of This Proposed AD

What has FAA decided? We have evaluated all pertinent information and identified an unsafe condition that is likely to exist or develop on other products of this same type design. For this reason, we are proposing AD action.

What would this proposed AD require? This proposed AD would supersede AD 93-24-14 with a new AD that would incorporate the actions in Piper Service Bulletin No. 1123A, dated November 30, 2004.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD affects 2,047 airplanes in the U.S. registry.

What would be the cost impact of this proposed AD on owners/operators of the affected airplanes? We estimate the following costs to do the proposed inspections and the rigging of the nose gear installation:

Labor cost | Parts cost | Total cost per airplane | Total cost on U.S. operators
9 workhours × $65 per hour = $585 | No cost for parts | $585 | 2,047 × $585 = $1,197,495.

We estimate the following costs to do all the necessary replacements that would be required based on the results of this proposed inspection. We have no way of determining the number of airplanes that may need these replacements:

Labor cost | Parts cost | Total cost per airplane
44 workhours × $65 per hour = $2,860 | $920 (only if cracks or damage found in the NLG) | $2,860 + $920 = $3,780.

What is the difference between the cost impact of this proposed AD and the cost impact of AD 93-24-14? The cost estimate in 1993 was for approximately 1,893 airplanes on the U.S. Registry and the cost estimate for the proposed AD is approximately 2,047 airplanes on the U.S. Registry. Therefore, there is an initial cost difference of $81,158 (154 airplanes × $527 per airplane) between that originally calculated in 1993 and what is proposed now. The difference of 154 airplanes could be attributed to the following:

—additional airplanes manufactured since 1993;

—additional airplanes brought into the United States and added to the U.S. Registry; and

—improved tools for calculating the number of U.S. registered aircraft in 2004/2005 compared to 1993.

Additionally, there are the costs of doing any necessary replacements based on the results of the proposed inspections.

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket No. 2004-CE-47-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 93-24-14, Amendment 39-8762 (58 FR 65115, December 13, 1993), and by adding a new AD to read as follows:

The New Piper Aircraft, Inc.: Docket No. FAA-2004-19960; Directorate Identifier 2004-CE-47-AD.

When Is the Last Date I Can Submit Comments on This Proposed AD?

(a) We must receive comments on this proposed airworthiness directive (AD) by April 11, 2005.

What Other ADs Are Affected by This Action?

(b) This AD supersedes AD 93-24-14, Amendment 39-8762.

What Airplanes Are Affected by This AD?

(c) This AD affects Models PA-34-200, PA-34-200T, and PA-34-220T airplanes, all serial numbers, that are certificated in any category.

What Is the Unsafe Condition Presented in This AD?

(d) This AD is the result of service difficulty reports related to the collapse or inadvertent retraction of the nose landing gear (NLG). The actions specified in this AD are intended to detect, correct, and prevent future failure in certain components of the NLG, lack of cleanliness of the NLG due to inadequate maintenance, or lack of lubricant in the NLG or NLG components. This failure of the NLG could lead to loss of control of the airplane during take-off, landing, or taxiing operations.

What Must I Do To Address This Problem?

(e) To address this problem, you must do the following:

Actions | Compliance | Procedures
(1) Replace the bolt and stack up that connects the upper drag link to the nose gear trunnion with new parts of the following: (i) Piper part number (P/N) 400 274 (AN7-35) bolt; (ii) Piper P/N 407 591 (AN960-716L) washer, as applicable; (iii) Piper P/N 407 568 (AN960-716); (iv) Piper P/N 404 396 (AN320-7) nut; and (v) Piper P/N 424 085 cotter pin. | Within the next 100 hours time-in-service (TIS) after January 28, 1994 (the effective date of AD 93-24-14), unless already done within the last 400 hours TIS before January 28, 1994 (compliance with AD 93-24-14). Repetitively replace thereafter at intervals not to exceed 500 hours TIS. Continue to repetitiveely replace until the actions in paragraph (e)(2) and (e)(3) of this AD begin. | Follow Figure 1 of this AD.
(2) Do the inspections, replacements, and other corrective actions specified in Table 1 “Specified Maintenance” of Piper Service Bulletin No. 1123A, dated November 30, 2004. | Within the next 100 hours TIS after the effective date of this AD, unless already done, Repetitively inspect thereafter at the intervals referenced in the Inspection Time column of the INSTRUCTIONS paragraph in Piper Service Bulletin No. 1123A, dated November 30, 2004. | Follow The New Piper Aircraft, Inc. Service Bulletin No. 1123A, dated November 30, 2004.
(3) Do any necessary corrective actions as a result of the actions specified in Table 1 “Specified Maintenance” of Piper Service Bulletin No. 1123A, dated November 30, 2004. | Before further flight after any action required by paragraph (e)(2) of this AD. | Follow The New Piper Aircraft, Inc. Service Bulletin No. 1123A, dated November 30, 2004.

BILLING CODE 4910-13-P

BILLING CODE 4910-13-C

Note 1: Paragraph 2. Modified Components of the INSTRUCTIONS section of The New Piper Aircraft, Inc. Service Bulletin No. 1123A, dated November 30, 2004, specifies modified parts that you may install for improved service life.

Note 2: The Actions column of the table in paragraph (e) of this AD may include one or a combination of these actions: replacement, repair, adjustment, alignment, cleaning, lubricating, or other action.

May I Request an Alternative Method of Compliance?

(f) You may request a different method of compliance or a different compliance time for this AD by following the procedures in 14 CFR 39.19. Unless FAA authorizes otherwise, send your request to your principal inspector. The principal inspector may add comments and will send your request to the Manager, Aircraft Certification Office (ACO), FAA. For information on any already approved alternative methods of compliance, contact Hassan Amini, Aerospace Engineer, FAA, Atlanta ACO, One Crown Center, 1895 Phoenix Boulevard, Suite 450, Atlanta, Georgia 30349; telephone: (770) 703-6080; facsimile: (770) 703-6097.

May I Get Copies of the Documents Referenced in This AD?

(g) To get copies of the documents referenced in this AD, contact The New Piper Aircraft, Inc., 2926 Piper Drive, Vero Beach, Florida, 32960. To view the AD docket, go to the Docket Management Facility; U.S. Department of Transportation, 400 Seventh Street, SW., Nassif Building, Room PL-401, Washington, DC, or on the Internet at http://dms.dot.gov. The docket number is FAA-2004-19960.

Issued in Kansas City, Missouri, on February 1, 2005.
Nancy C. Lane,
Acting Manager, Small Airplane Directorate, Aircraft Certification Service.

[FR Doc. 05-2374 Filed 2-8-05; 8:45 am]

BILLING CODE 4910-13-P